DEPARTMENT OF ENERGY

Federal Energy Regulatory Commission

[Docket Nos. CP17-66-000; CP17-67-000]

Venture Global Plaquemines LNG, LLC and Venture Global Gator Express, LLC; Notice of Availability of the Final Environmental Impact Statement for the Proposed Plaquemines LNG and Gator Express Pipeline Project

The staff of the Federal Energy Regulatory Commission (FERC or Commission) has prepared a final environmental impact statement (EIS) for the Plaquemines LNG and Gator Express Pipeline Project, proposed by Venture Global Plaquemines LNG, LLC and Venture Global Gator Express, LLC in the above-referenced dockets. Venture Global requests authorization to construct and operate a new liquefied natural gas (LNG) export terminal and associated facilities along the west bank of the Mississippi River in Plaquemines Parish, Louisiana (Terminal) and to construct and operate two new 42-inch-diameter natural gas pipeline laterals that would connect to the LNG Terminal. The new liquefaction facilities would have a nameplate production capacity of 20.0 million metric tons per annum (MTPA) of LNG and peak production capacity of 24 MTPA.

The final EIS assesses the potential environmental effects of the construction and operation of the Plaquemines LNG and Gator Express Pipeline Project in accordance with the requirements of the National Environmental Policy Act (NEPA). The FERC staff concludes that approval of the proposed project, with the mitigation measures recommended in the final EIS, would have some adverse environmental impacts. These impacts would be reduced to less-than-significant levels with the implementation of Venture Global's proposed mitigation measures and the additional measures recommended in the final EIS.

The U.S. Army Corps of Engineers, U.S. Coast Guard, U.S. Department of Energy, U.S. Environmental Protection Agency, and U.S. Department of Transportation participated as cooperating agencies in the preparation of the EIS. Cooperating agencies have jurisdiction by law or special expertise with respect to resources potentially affected by the proposal and participate in the NEPA analysis. Although the cooperating agencies provided input to the conclusions and recommendations presented in the EIS, the agencies will present their own conclusions and recommendations in their respective Records of Decision for the project.

The final EIS addresses the potential environmental effects of the construction and operation of the following project facilities:

• LNG Terminal: Construction and operation of various liquefaction, LNG distribution, and appurtenant facilities within the boundaries of the site leased by Venture Global on the Mississippi River, including:

○ Six pretreatment facilities (three in each phase);

○ a liquefaction plant with 18 integrated single-mixed refrigerant blocks and support facilities (otherwise referred to as liquefaction blocks or blocks) to be constructed in two phases (nine blocks in each phase);

○ four 200,000-cubic-meter aboveground LNG storage tanks;

○ three LNG loading docks within a common LNG berthing area; and

○ air-cooled electric power generation facilities.

• Pipeline System: Construction and operation of two parallel 42-inch-diameter natural gas pipelines that share one right-of-way corridor for the majority of their respective routes and appurtenant aboveground facilities, including the following:

○ 15.1-mile-long Southwest Lateral Tennessee Gas Pipeline, LLC (TGP) Pipeline;

○ 11.7-mile-long Southwest Lateral Texas Eastern Transmission, LP (TETCO) Pipeline;

○ TGP metering and regulation station; and

○ TETCO metering and regulation station.

The Commission mailed a copy of the Notice of Availability to federal, state, and local government representatives and agencies; elected officials; environmental and public interest groups; Native American tribes; potentially affected landowners and other interested individuals and groups; and newspapers and libraries in the project area. The final EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the “Docket Number” field, excluding the last three digits (i.e., CP17-66 or CP17-67). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: May 3, 2019.
Kimberly D. Bose,
Secretary.

[FR Doc. 2019-09719 Filed 5-10-19; 8:45 am]

BILLING CODE 6717-01-P